INTERNATIONAL TRADE COMMISSION

[Investigation No. 337-TA-984]

Certain Computing or Graphics Systems, Components Thereof, and Vehicles Containing Same; Institution of Investigation

AGENCY: U.S. International Trade Commission.

ACTION: Notice.

SUMMARY: Notice is hereby given that a complaint was filed with the U.S. International Trade Commission on December 28, 2015, under section 337 of the Tariff Act of 1930, as amended, 19 U.S.C. 1337, on behalf of Advanced Silicon Technologies LLC of Portsmouth, New Hampshire. The complaint alleges violations of section 337 based upon the importation into the United States, the sale for importation, and the sale within the United States after importation of certain computing or graphics systems, components thereof, and vehicles containing same by reason of infringement of certain claims of U.S. Patent No. 6,339,428 (“the '428 patent”); U.S. Patent No. 6,546,439 (“the '439 patent”); U.S. Patent No. 6,630,935 (“the '935 patent”); and U.S. Patent No. 8,933,945 (“the '945 patent”). The complaint further alleges that an industry in the United States exists or is in the process of being established as required by subsection (a)(2) of section 337.

The complainant requests that the Commission institute an investigation and, after the investigation, issue a limited exclusion order and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

SUPPLEMENTARY INFORMATION:

Authority: The authority for institution of this investigation is contained in section 337 of the Tariff Act of 1930, as amended, and in section 210.10 of the Commission's Rules of Practice and Procedure, 19 CFR 210.10 (2015).

Scope of Investigation: Having considered the complaint, the U.S. International Trade Commission, on January 27, 2016, ordered that—

(1) Pursuant to subsection (b) of section 337 of the Tariff Act of 1930, as amended, an investigation be instituted to determine whether there is a violation of subsection (a)(1)(B) of section 337 in the importation into the United States, the sale for importation, or the sale within the United States after importation of certain computing or graphics systems, components thereof, and vehicles containing same by reason of infringement of one or more of claims 1-6, 8, 9, 10-14, 16, 17, and 25-29 of the '428 patent; claims 1-11 and 14-16 of the '439 patent; claims 1, 2, and 4-8 of the '935 patent; and claims 1-11 and 21 of the '945 patent, and whether an industry in the United States exists or is in the process of being established as required by subsection (a)(2) of section 337;

(2) Pursuant to Commission Rule 210.50(b)(1), 19 CFR 210.50(b)(1), the presiding administrative law judge shall take evidence or other information and hear arguments from the parties and other interested persons with respect to the public interest in this investigation, as appropriate, and provide the Commission with findings of fact and a recommended determination on this issue, which shall be limited to the statutory public interest factors set forth in 19 U.S.C. 1337(d)(1), (f)(1), (g)(1);

(3) For the purpose of the investigation so instituted, the following are hereby named as parties upon which this notice of investigation shall be served:

(a) The complainant is:

Advanced Silicon Technologies LLC, 118 Maplewood Avenue, Unit C-2/Box 8, Portsmouth, NH 03801.

(b) The respondents are the following entities alleged to be in violation of section 337, and are the parties upon which the complaint is to be served:

Bayerische Motoren Werke AG, Petuelring 130, D-80788, Munich, Germany.

BMW of North America, LLC, 300 Chestnut Ridge Road, Woodcliff Lake, NJ 07677.

BMW Manufacturing Co., LLC, 1400 Highway 101 South, Greer, SC 29651.

Fujitsu Ten Limited, 1-2-28, Gosho-dori, 1-chome, Hyogo-ku, Kobe-shi, Hyogo-ken 652-8510, Japan.

Fujitsu Ten Corp. of America, Inc., 30155 Hudson Drive, Novi, MI 48377.

Harman International Industries, Inc., 400 Atlantic Street, Stamford, CT 06901.

Harman Becker Automotive Systems, Inc., 39001 West Twelve Mile Road, Farmington Hills, MI 48331.

Harman Becker Automotive Systems GmbH, Becker-Goring-Strasse 16, Karlsbad 76307, Germany.

Honda Motor Co., Ltd., 2-1-1, Minami-Aoyama, Minato-Ku, Tokyo 107-8556, Japan.

Honda North America, Inc., 700 Van Ness Avenue, Torrance, CA 90501.

American Honda Motor Co., Inc., 1919 Torrance Boulevard, Torrance, CA 90501.

Honda Engineering North America, Inc., 24000 Honda Parkway, Marysville, OH 43040.

Honda of America Mfg., Inc., 24000 Honda Parkway, Marysville, OH 43040.

Honda Manufacturing of Alabama, LLC, 1800 Honda Drive, Lincoln, AL 35096.

Honda Manufacturing of Indiana, LLC, 2755 North Michigan Avenue, Greensburg, IN 47240.

Honda R&D Americas, Inc., 1900 Harpers Way, Torrance, CA 90501.

NVIDIA Corporation, 2701 San Tomas Expressway, Santa Clara, CA 95050.

Renesas Electronics Corporation, Toyosu Foresia, 3-2-24 Toyosu, Koto-ku, Tokyo 135-0061, Japan.

Renesas Electronics America, Inc., 2801 Scott Boulevard, Santa Clara, CA 95050.

Texas Instruments Inc., 12500 TI Boulevard, Dallas, TX 75243.

Toyota Motor Corporation, 1 Toyota-cho, Toyota-shi, Aichi-ken 471-8571, Japan.

Toyota Motor North America, Inc., 601 Lexington Avenue, 49th Floor, New York, NY 10022.

Toyota Motor Sales, U.S.A., Inc., 19001 South Western Avenue, Torrance, CA 90501.

Toyota Motor Engineering & Manufacturing North America, Inc., 25 Atlantic Avenue, Erlanger, KY 41018.

Toyota Motor Manufacturing, Indiana, Inc., 4000 Tulip Tree Drive, Princeton, IN 47670.

Toyota Motor Manufacturing, Kentucky, Inc., 1001 Cherry Blossom Way, Georgetown, KY 40324.

Toyota Motor Manufacturing, Mississippi, Inc., 1200 Magnolia Way, Blue Springs, MS 38828.

Volkswagen AG, Brieffach 1849, D-38436 Wolfsburg, Germany.

Volkswagen Group of America, Inc., 2200 Ferdinand Porsche Drive, Herndon, VA 20171.

Volkswagen Group of America Chattanooga Operations, LLC, 8001 Volkswagen Drive, Chattanooga, TN 37416.

Audi AG, Ettinger Strasse, D-85045, Ingolstadt, Germany.

Audi of America, LLC, 2200 Ferdinand Porsche Drive, Herndon, VA 20171.

(c) The Office of Unfair Import Investigations, U.S. International Trade Commission, 500 E Street SW., Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: January 29, 2016.
Lisa R. Barton,
Secretary to the Commission.

[FR Doc. 2016-01961 Filed 2-2-16; 8:45 am]

BILLING CODE 7020-02-P